DEPARTMENT OF HEALTH AND HUMAN SERVICES

Food and Drug Administration

[Docket No. 00N-1379]

Agency Information Collection Activities; Proposed Collection; Comment Request; Procedures for the Safe Processing and Importing of Fish and Fishery Products

AGENCY: Food and Drug Administration, HHS.

ACTION: Notice.

SUMMARY: The Food and Drug Administration (FDA) is announcing an opportunity for public comment on the proposed collection of certain information by the agency. Under the Paperwork Reduction Act of 1995 (the PRA), Federal agencies are required to publish notice in the Federal Register concerning each proposed collection of information, including each proposed extension of an existing collection of information, and to allow 60 days for public comment in response to the notice. This notice solicits comments on extending the existing reporting and recordkeeping requirements for processors and importers of fish and fishery products under the provisions of FDA's fish and fishery products regulations.

DATES: Submit written comments on the collection of information by September 19, 2000.

ADDRESSES: Submit written comments on the collection of information to the Dockets Management Branch (HFA-305), Food and Drug Administration, 5630 Fishers Lane, rm. 1061, Rockville, MD 20852. All comments should be identified with the docket number found in brackets in the heading of this document.

FOR FURTHER INFORMATION CONTACT: Peggy Schlosburg, Office of Information Resources Management (HFA-250), Food and Drug Administration, 5600 Fishers Lane, Rockville, MD 20857, 301-827-1223.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, FDA is publishing notice of the proposed collection of information set forth in this document.

With respect to the following collection of information, FDA invites comments on: (1) Whether the proposed collection of information is necessary for the proper performance of FDA's functions, including whether the information will have practical utility; (2) the accuracy of FDA's estimate of the burden of the proposed collection of information, including the validity of the methodology and assumptions used; (3) ways to enhance the quality, utility, and clarity of the information to be collected; and (4) ways to minimize the burden of the collection of information on respondents, including through the use of automated collection techniques, when appropriate, and other forms of information technology.

Procedures for the Safe Processing and Importing of Fish and Fishery Products (OMB Control Number 0910-0354)—Extension

FDA regulations in part 123 (21 CFR part 123) mandate the application of Hazard Analysis and Critical Control Point (HACCP) principles to the processing of seafood. HACCP is a preventive system of hazard control designed to help ensure the safety of foods. The regulations were issued under FDA's statutory authority to regulate food safety, including section 402(a)(1) and (a)(4) of the Federal Food, Drug, and Cosmetic Act (21 U.S.C. 342(a)(1) and (a)(4)), and became effective on December 18, 1997.

Certain provisions in part 123 require that processors and importers of seafood collect and record information. The HACCP records compiled and maintained by a seafood processor primarily consist of the periodic observations recorded at selected monitoring points during processing and packaging operations, as called for in a processor's HACCP plan (e.g., the values for processing times, temperatures, acidity, etc. as observed at critical control points). The primary purpose of HACCP records is to permit a processor to verify that products have been produced within carefully established processing parameters (critical limits) that ensure that hazards have been avoided. HACCP records are normally reviewed by appropriately trained employees at the end of a production lot or at the end of a day or week of production to verify that control limits have been maintained, or that appropriate corrective actions were taken if the critical limits were not maintained. Such verification activities are essential to ensure that the HACCP system is working as planned. A review of these records during the conduct of periodic plant inspections also permits FDA to determine whether the products have been consistently processed in conformance with appropriate HACCP food safety controls.

Section 123.12 requires that importers of seafood products take affirmative steps and maintain records that verify that the fish and fishery products they offer for import into the United States were processed in accordance with the HACCP and sanitation provisions set forth in part 123. These records are also to be made available for review by FDA as provided in § 123.12(c).

The time and costs of these recordkeeping activities will vary considerably among processors and importers of fish and fishery products, depending on the type and number of products involved, and the nature of the equipment or instruments required to monitor critical control points. The burdens have been estimated using typical small seafood processing firms as a model because these firms represent a significant proportion of the industry.

The burden estimate in Table 1 includes only those collections of information under the seafood HACCP regulations that are not already required under other statutes and regulations. For example, the current food manufacturing practices provisions in 21 CFR part 110 already require that all food processors ensure good sanitary practices and conditions, monitor the quality of incoming materials, monitor and control food temperatures to prevent bacterial growth, and perform certain corrective actions and verification procedures. Furthermore, the estimate does not include collections of information that are a usual and customary part of businesses' normal activities. For example, the tagging and labeling of molluscan shellfish (21 CFR 1240.60) is a customary and usual practice among seafood processors. Consequently the estimates in Table 1 account only for new information collection and recording requirements attributable to part 123. FDA estimates the burden of this collection of information as follows:

Table 1.—Estimated Annual Recordkeeping Burden¹
21 CFR Section | No. of recordkeepers | Annual frequency per recordkeeping² | Total annual records | Hours per recordkeeper³ | Total hours | Total operating and maintenance costs
123.6(a), (b), and (c) | 243 | 1 | 243 | 16 | 3,888 | $58,320
123.6(c)(5) | 4,850 | 4 | 19,400 | 0.30 | 5,820 | $87,300
123.8(a)(1) and (c) | 4,850 | 1 | 4,850 | 4 | 19,400 | $291,000
123.12(a)(2)(ii) | 1,000 | 80 | 80,000 | 0.20 | 16,000 | $240,000
123.6(c)(7) | 4,850 | 280 | 1,358,000 | 0.30 | 407,400 | $6,111,000
123.7(d) | 1,940 | 4 | 7,760 | 0.10 | 1,940 | $29,100
123.8(d) | 4,850 | 47 | 227,950 | 0.10 | 22,795 | $341,925
123.11(c) | 4,850 | 280 | 1,358,000 | 0.10 | 135,800 | $2,037,000
123.12(c) | 1,000 | 80 | 80,000 | 0.10 | 8,000 | $120,000
123.12(a)(2) | 50 | 1 | 50 | 4 | 200 | $3,000
123.10 | 243 | 1 | 24 | 24 | 5,832 | $87,480
Annual burden hours |  |  |  |  | 627,075 | $9,406,125
¹There are no capital costs associated with this collection of information.
²Based on an estimated 280 working days per year.
³Estimated average time per 8-hour work day unless one time response.
The above estimates include the information collection requirements in the following sections:
§ 123.16 Smoked Fish—process controls (see § 123.6(b))
§ 123.28(a) Source Controls—molluscan shellfish (see § 123.6(b))
§ 123.28(c), (d) Records—molluscan shellfish (see § 123.6(c)(7))

Dated: July 14, 2000.
William K. Hubbard,
Senior Associate Commissioner for Policy, Planning, and Legislation.

[FR Doc. 00-18459 Filed 7-20-00; 8:45 am]

BILLING CODE 4160-01-F